TENNESSEE VALLEY AUTHORITY

[Meeting No. 13-02]

Sunshine Act Meetings

April 18, 2013.

The TVA Board of Directors will hold a public meeting on April 18, 2013, in the Cherry Theater of the Waymon L. Hickman Building, Columbia State Community College, 1665 Hampshire Pike, Columbia, Tennessee. The public may comment on any agenda item or subject at a public listening session which begins at 9 a.m. (CT). Following the end of the public listening session, the meeting will be called to order to consider the agenda items listed below. On-site registration will be available until 15 minutes before the public listening session begins at 9 a.m. (CT). Preregistered speakers will address the Board first. TVA management will answer questions from the news media following the Board meeting.

Status: Open.

Agenda

Chairman's Welcome

Old Business

Approval of minutes of February 14, 2013, Board Meeting

New Business

1. Report from President and CEO

2. Report of the People and Performance Committee

3. Report of the External Relations Committee

A. Stakeholder input on regional energy resource issues

4. Report of the Nuclear Oversight Committee

5. Report of the Finance, Rates, and Portfolio Committee

A. Supplement to contract with Day and Zimmerman NPS, Inc., for generation modifications and supplemental maintenance services

B. Ownership and financing arrangements for Southaven combined cycle plant

6. Report of the Audit, Risk, and Regulation Committee

A. TVA regulatory policy

7. Information Item

A. Clarification of Chief Executive Officer's authority to set compensation of managerial direct reports consistent with Board approved compensation plan

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: April 11, 2013.
Ralph E. Rodgers,
General Counsel and Secretary.

[FR Doc. 2013-08989 Filed 4-12-13; 11:15 am]

BILLING CODE 8120-08-P